DEPARTMENT OF HOMELAND SECURITY

Federal Emergency Management Agency

[Docket ID: FEMA-2011-0008]

Agency Information Collection Activities: Proposed Collection; Comment Request, 1660-0044; Emergency Management Institute Follow-Up Evaluation Survey

AGENCY: Federal Emergency Management Agency, DHS.

ACTION: Notice; 60-day notice and request for comments; extension, without change, of a currently approved information collection; OMB No. 1660-0044; FEMA Form 519-0-1 (Presently FEMA Form 95-56), Post-Course Evaluation Questionnaire.

SUMMARY: The Federal Emergency Management Agency, as part of its continuing effort to reduce paperwork and respondent burden, invites the general public and other Federal agencies to take this opportunity to comment on a proposed extension, without change, of a currently approved information collection. In accordance with the Paperwork Reduction Act of 1995, this notice seeks comments concerning knowledge and skills gained through emergency management related courses.

DATES: Comments must be submitted on or before May 9, 2011.

ADDRESSES: To avoid duplicate submissions to the docket, please use only one of the following means to submit comments:

(1) Online. Submit comments at http://www.regulations.gov under Docket ID FEMA-2011-0008. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0008 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Dana Moat, Training Specialist, Emergency Management Institute, 301-447-1922 for additional information. You may contact the Records Management Division for copies of the proposed collection of information at facsimile number (202) 646-3347 or e-mail address: FEMA-Information-Collections-Management@dhs.gov.

SUPPLEMENTARY INFORMATION: State Assistance Programs for Training and Education in Comprehensive Emergency Management, 44 CFR part 360, implements the Emergency Management Training Program, which is designed to increase States' emergency management capabilities through training of personnel with responsibilities over preparedness, response, and recovery from all types of disasters. The Robert T. Stafford Disaster Relief and Emergency Assistance Act, 42 U.S.C. 5121 et seq., authorizes training programs for emergency preparedness for State, local and Tribal government personnel to collect this data. In response to the Government Performance and Results Act (GPRA), the information obtained from the Emergency Management Institute “Follow-up Evaluation Survey,” will be a follow-up tool used to evaluate the knowledge and/or skills participants obtained at EMI during training courses, and to improve Emergency Management Institute courses. The information is critical to determine if the Emergency Management Institute is meeting strategic goals and objectives established by the Federal Emergency Management Agency in order to fulfill its mission.

Collection of Information

Title: Emergency Management Institute Follow-up Evaluation Survey.

Type of Information Collection: Extension, without change, of a currently approved information collection.

OMB Number: OMB No. 1660-0044.

Form Titles and Numbers: FEMA Form 519-0-1 (Presently FEMA Form 95-56), Post-Course Evaluation Questionnaire.

Abstract: The Emergency Management Institute Follow-up Survey allows trainees at the Emergency Management Institute to self-assess the knowledge and skills gained through emergency management-related courses and the extent to which they have been beneficial and applicable in the conduct of their official positions. The information collected is used to review course content and offerings for program planning and management purposes.

Affected Public: Individuals or households, State, local or Tribal government.

Estimated Total Annual Burden Hours: 950 burden hours.

Estimated Cost: There are no annual start-up or capital costs.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 28, 2011.
Lesia M. Banks,
Director, Records Management Division, Mission Support Bureau, Federal Emergency Management Agency, Department of Homeland Security.

[FR Doc. 2011-5131 Filed 3-7-11; 8:45 am]

BILLING CODE 9111-27-P